DEPARTMENT OF ENERGY

Federal Energy Regulatory Commission

Combined Notice of Filings

Take notice that the Commission has received the following Natural Gas Pipeline Rate and Refund Report filings:

Filings Instituting Proceedings

Docket Numbers: CP17-458-001.

Applicants: Midship Pipeline Company, LLC.

Description: Abbreviated Application for Certificate Authority of Midship Pipeline Company, LLC.

Filed Date: 5/1/19.

Accession Number: 20190501-5445.

Comments Due: 5 p.m. ET 5/22/19.

Docket Number: PR19-58-000.

Applicants: Bayonne Energy Center, LLC.

Description: Tariff filing per 284.224/.123: Baseline Refiling to be effective 10/1/2019.

Filed Date: 5/1/19.

Accession Number: 201905015318.

Comments/Protests Due: 5 p.m. ET5/22/19.

Docket Numbers: RP19-1185-000.

Applicants: Alliance Pipeline L.P.

Description: Operational Purchases and Sales Report of Alliance Pipeline L.P. under RP19-1185.

Filed Date: 4/30/19.

Accession Number: 20190430-5451.

Comments Due: 5 p.m. ET 5/13/19.

Docket Numbers: RP19-423-001.

Applicants: Tallgrass Interstate Gas Transmission, LLC.

Description: Pre-Arranged/Pre-Agreed (Petition for Approval of Settlement) Filing, et al. of Tallgrass Interstate Gas Transmission, LLC under RP19-423.

Filed Date: 5/1/19.

Accession Number: 20190501-5451.

Comments Due: 5 p.m. ET 5/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2019.
Kimberly D. Bose,
Secretary.

[FR Doc. 2019-09714 Filed 5-10-19; 8:45 am]

BILLING CODE 6717-01-P